DEPARTMENT OF JUSTICE

Notice of Lodging of Consent Decree under the Comprehensive Environmental Response, Compensation, and Liability Act

Notice is hereby given that on April 6, 2006, a proposed consent decree (“proposed decree”) in United States v. The Standard Oil Co. et al., Civil Action No. 3:06-cv-00539-JBA, was lodged with the United States District Court for the District of Connecticut.

The proposed decree resolves claims asserted by the United States, on behalf of the U.S. Environmental Protection Agency (“EPA”), against The Standard Oil Co. and Industrial Holdings Corp. (“Settling Defendants”) under section 107 of the Comprehensive Environmental Response, Compensation, and Liability Act (“CERCLA”), 42 U.S.C. 9607. The claims sought to recover past response costs incurred at the Chase Brass & Copper site (“Site”) in Watertown, Connecticut. The proposed decree requires the Settling Defendants to reimburse the United States $4,000,000 in past response costs.

The Department of Justice will accept written comments relating to the proposed consent decree for thirty (30) days from the date of publication of this notice. Please address comments to the Assistant Attorney General c/o Jerome MacLaughlin, Environment and Natural Resources Division, Department of Justice, P.O. Box 7611, Ben Franklin Station, Washington, DC 20044 and refer to United States v. The Standard Oil Co. et al., Civil Act No. 3:06-cv-00539-JBA (D. Conn.), DJ #90-11-3-08073.

Copies of the proposed decree may be examined at the Office of the United States Attorney for the District of Connecticut, 157 Church St. Floor 23, New Haven, CT 06510, or at the U.S. Environmental Protection Agency, Region I, One Congress St., Boston, MA 02114. During the public comment period, the proposed Decree may also be examined on the following Department of Justice Web site, http://www.usdoj.gov/enrd/open.html. Copies of the proposed Decree may also be obtained by mail from the U.S. Department of Justice, Consent Decree Library, P.O. Box 7611, Ben Franklin Station, Washington, DC 20044-7611, or by faxing or e-mailing a request to Tonia Fleetwood (tonia.fleetwood@usdoj.gov), fax no. (202) 514-0097, phone confirmation number (202) 514-1547. In requesting a copy from the Consent Decree library, please enclose a check in the amount of $4.50 (25 cents per page reproduction cost) payable to the U.S. Treasury or, if by e-mail or fax, forward a check in that amount to the Consent Decree Library at the stated address.

Ronald G. Gluck,
Assistant Section Chief, Environmental Enforcement Section, Environment and Natural Resources Division, U.S. Department of Justice.

[FR Doc. 06-3750 Filed 4-19-06; 8:45 am]

BILLING CODE 4410-15-M